NATIONAL AERONAUTICS AND SPACE ADMINISTRATION

[Notice 01-067]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: June 14, 2001.

FOR FURTHER INFORMATION CONTACT: Rob Padilla, Patent Counsel, Ames Research Center, Mail Code 202A-3, Moffett Field, CA 94035; telephone (650) 604-5104, fax

(650) 604-7486.

NASA Case No. ARC-14480-1: Automation of Information Acquisition and Manipulation System;

NASA Case No. ARC-14512-1: Method and Apparatus for Conducting A Keyterm Search System;

NASA Case No. ARC-14513-1: Method and Apparatus for Conducting A Phrase Search System;

NASA Case No. ARC-14514-1: Method and Apparatus for Generating Phrases from A Database System;

NASA Case No. ARC-14515-1: Method and Apparatus for Discovering Phrases In A Database;

NASA Case No. ARC-14556-1: Auditory Alert Systems With Enhanced Detectability.

Dated: June 4, 2001.
Edward A. Frankle,
General Counsel.

[FR Doc. 01-15010 Filed 6-13-01; 8:45 am]

BILLING CODE 7510-01-P